DEPARTMENT OF ENERGY

Proposed Agency Information Collection

AGENCY: U.S. Department of Energy.

ACTION: Notice and Request for OMB Review and Comment.

SUMMARY: The Department of Energy (DOE) has submitted to the Office of Management and Budget (OMB) for clearance, a proposal for collections of information under the provisions of the Paperwork Reduction Act of 1995. The proposed collection will determine: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

DATES: Comments regarding this proposed information collection must be received on or before May 20, 2009. If you anticipate that you will be submitting comments, but find it difficult to do so within the period of time allowed by this notice, please advise the OMB Desk Officer of your intention to make a submission as soon as possible. The Desk Officer may be telephoned at 202-395-4650.

ADDRESSES: Written comments should be sent to the:

DOE Desk Officer, Office of Information and Regulatory Affairs, Office of Management and Budget, New Executive Office Building, Room 10102, 735 17th Street, NW., Washington, DC 20503.

And to:

Douglas E. George, IN-10 (Ops), 1000 Independence Avenue, SW., Washington, DC 20585, Douglas.George@in.doe.gov, Fax: 202-586-0342.

FOR FURTHER INFORMATION CONTACT: Requests for additional information or copies of the information collection and instructions should be directed to: Douglas E. George, IN-10 (Ops), 1000 Independence Avenue, SW., Washington, DC 20585, Douglas.George@in.doe.gov, Fax: 202-586-0342.

SUPPLEMENTARY INFORMATION: This information collection request contains: (1) OMB No. “New”; (2) Information Collection Request Title: Office of Intelligence Customer Survey; (3) Type of Collection: New; Voluntary (4) Purpose: To track, on a monthly basis, the internal and external organizational use of and satisfaction and/or dissatisfaction with DOE Office of Intelligence and Counterintelligence products. It provides senior managers with information revealing the relative success and utility of DOE intelligence products; (5) Estimated annual number of respondents: 100; (6) Estimated annual number of Burden Hours: 25 hours; (6) Authority: National Intelligence Production Board, Office of the United States Director of Central Intelligence, Strategic Investment Plan for Intelligence Community Analysis, Chapter 5: Customer Support, at 53-58 (2000).

SUMMARY: The information collection request assists DOE in responding to the Intelligence Community's number one priority, which is to provide its customers with the best possible custom-tailored intelligence. It provides the agency with a better ability to understand and respond to client needs. It enhances direct linkages between DOE analysts and clients; encourages continuous dialogue and substantive feedback; helps better manage customer expectations; assists DOE analysts stay better aware of client expectations; and provides a means by which to develop common metrics and methods of assessing DOE customer satisfaction with its intelligence products. The collection of information is a 25-question survey that seeks three essential types of information from current and potential DOE intelligence product customers. First, the survey asks customers to identify their organization type, intelligence competency, and to provide a point of contact. Second, it asks how customers define success and how change affects their organization. Third, and finally, it asks for the frequency and purpose of customers' use of DOE intelligence products, asks how DOE products may be improved, and seeks customers' budget and product choice information.

Issued in Washington, DC, on April 15, 2009.
Marie Falkowski,
Director of Operations, IN-10 (Ops), Department of Energy.

[FR Doc. E9-9032 Filed 4-17-09; 8:45 am]

BILLING CODE 6450-01-P